NATIONAL AERONAUTICS AND SPACE ADMINISTRATION

[Notice: 06-061]

Notice of Information Collection

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)).

DATES: All comments should be submitted within 60 calendar days from the date of this publication.

ADDRESSES: All comments should be addressed to Mr. Walter Kit, Mail Code JE, National Aeronautics and Space Administration, Washington, DC 20546-0001.

FOR FURTHER INFORMATION CONTACT: Requests for additional information or copies of the information collection instrument(s) and instructions should be directed to Mr. Walter Kit, NASA Reports Officer, NASA Headquarters, 300 E Street SW., Mail Code JE, Washington, DC 20546, (202) 358-1350, Walter.Kit-1@nasa.gov.

SUPPLEMENTARY INFORMATION:

I. Abstract

The National Aeronautics and Space Administration (NASA) is requesting extension of an existing collection, NASA Mentor-Protege Program Small Business and Small Disadvantaged Business Concerns Report, that is used to help NASA monitor mentor-protégé performance and progress in accordance with the mentor-protégé agreement. Respondents will be for-profit small disadvantaged businesses. The NASA Mentor-Protégé Program is designed to provide incentives for NASA prime contractors to assist small disadvantaged business (SDB) concerns, Historically Black Colleges and Universities (HBCUs), minority institutions (MIs), and women-owned small business (WOSB) concerns, in enhancing their capabilities to perform NASA contracts and subcontracts.

II. Method of Collection

NASA uses electronic methods to collect information from collection respondents.

III. Data

Title: NASA Mentor-Protégé Program-Small Business and Small Disadvantaged Business Concerns Report.

OMB Number: 2700-0078.

Type of review: Extension of a currently approved collection.

Number of respondents: 20.

Affected Public: Business or other for-profit: 10.

Estimated Time Per Response: 1.5 hours.

Estimated Total Annual Burden Hours: 30.

Estimated Total Annual Cost: $0.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Gary Cox,
Deputy Chief Information Officer (Acting).

[FR Doc. E6-14173 Filed 8-24-06; 8:45 am]

BILLING CODE 7510-13-P